DEPARTMENT OF TRANSPORTATION

Federal Aviation Administration

14 CFR Part 39

[Docket No. FAA-2012-0495; Directorate Identifier 2011-NM-236-AD]

RIN 2120-AA64

Airworthiness Directives; Gulfstream Aerospace LP (Type Certificate Previously Held by Israel Aircraft Industries, Ltd.) Airplanes

AGENCY: Federal Aviation Administration (FAA), Department of Transportation (DOT).

ACTION: Proposed rule; withdrawal.

SUMMARY: The FAA withdraws a notice of proposed rulemaking (NPRM) that proposed a new airworthiness directive (AD) for certain Gulfstream Aerospace LP (Type Certificate previously held by Israel Aircraft Industries, Ltd.) Model Galaxy and Gulfstream 200 airplanes. The proposed AD would have required determining the lengths of the wear indicating pins of all brake assemblies, shortening the pin if the wear indicating pin is too long, inspecting for normal brake wear, and replacing brakes with new brakes if necessary. Since the issuance of the NPRM, the FAA has received new data that indicates the actions addressing this unsafe condition have been accomplished on the worldwide fleet. Accordingly, the proposed AD is withdrawn.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue SE., Washington, DC 20590.

FOR FURTHER INFORMATION CONTACT: Tom Groves, Aerospace Engineer, International Branch, ANM-116, Transport Airplane Directorate, FAA, 1601 Lind Avenue SW., Renton, WA 98057-3356; telephone (425) 227-1503; fax (425) 227-1149.

SUPPLEMENTARY INFORMATION:

Discussion

We proposed to amend part 39 of the Federal Aviation Regulations (14 CFR part 39) with a notice of proposed rulemaking (NPRM) for a new AD for certain Gulfstream Aerospace LP (Type Certificate previously held by Israel Aircraft Industries, Ltd.) Model Galaxy and Gulfstream 200 airplanes. That NPRM was published in the Federal Register on May 31, 2012 (77 FR 32069). The NPRM would have required determining the lengths of the wear indicating pins of all brake assemblies, shortening the pin if the wear indicating pin is too long, inspecting for normal brake wear, and replacing brakes with new brakes if necessary. The NPRM resulted from reports of degraded brake performance during landing due to improperly-sized wear indicating pins. The proposed actions were intended to detect and correct improperly-sized wear indicating pins, which, if not corrected, could result in worn-out brake pads and subsequent loss of braking power, which could result in runway overruns.

Actions Since NPRM (77 FR 32069, May 31, 2012) Was Issued

Since we issued the NPRM (77 FR 32069, May 31, 2012), FAA has received new data that indicates the unsafe condition no longer exists. Review of the Gulfstream Aerospace LP Model Galaxy and Gulfstream 200 airplane service history shows that the worldwide fleet is in compliance with the actions specified in Gulfstream Service Bulletin 200-32-389, Revision 1, dated October 27, 2011. Therefore, the unsafe condition no longer exists.

FAA's Conclusions

Upon further consideration, we have determined that the actions specified in Gulfstream Service Bulletin 200-32-389, Revision 1, dated October 27, 2011, and the Gulfstream Aerospace LP Model Galaxy and Gulfstream 200 airplane service history adequately addressed the identified unsafe condition. Therefore, it is not necessary to issue a final rule. Accordingly, the NPRM (77 FR 32069, May 31, 2012) is withdrawn.

Withdrawal of the NPRM (77 FR 32069, May 31, 2012) does not preclude the FAA from issuing another related action or commit the FAA to any course of action in the future.

Regulatory Impact

Since this action only withdraws an NPRM (77 FR 32069, May 31, 2012), it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2012-0495, Directorate Identifier 2011-NM-236-AD, which was published in the Federal Register on May 31, 2012 (77 FR 32069).

Issued in Renton, Washington, on October 14, 2012.
John P. Piccola,
Acting Manager, Transport Airplane Directorate, Aircraft Certification Service.

[FR Doc. 2012-26080 Filed 10-22-12; 8:45 am]

BILLING CODE 4910-13-P